DEPARTMENT OF TRANSPORTATION

Federal Aviation Administration

Notice of Intent To Rule on Application To Impose and Use the Revenue From a Passenger Facility Charge (PFC) at Palm Beach International Airport, West Palm Beach, FL

AGENCY: Federal Aviation Administration (FAA), DOT.

ACTION: Notice of intent to rule on application.

SUMMARY: This correction revises information from the previously published notice. In notice document 02-26585 appearing on page 64444 in the issue of Friday, October 18, 2002, under supplementary information, in the first column, in the 48th line, the PFC Application No., should read, 02-07-C-00-PBI.

FOR FURTHER INFORMATION CONTACT: Matthew J. Thys, Program Manager, Orlando Airports District Office, 5950 Hazeltine National Drive, Suite 400, Orlando, FL 32822, (407) 812-6331.

Issued in Orlando, Florida on November 13, 2002.
W. Dean Stringer,
Manager, Orlando Airports District Office, Southern Region.

[FR Doc. 02-29665 Filed 11-20-02; 8:45 am]

BILLING CODE 4910-13-M